DEPARTMENT OF COMMERCE

National Oceanic and Atmospheric Administration

[I.D. 072202A]

Receipt of an Application for an Incidental Take Permit (1398)

AGENCY: National Marine Fisheries Service (NMFS), National Oceanic and Atmospheric Administration, Commerce

ACTION: Notice of availability.

SUMMARY: NMFS has received an application for an incidental take permit (Permit) from the North Carolina Division of Marine Fisheries (NCDMF) pursuant to the Endangered Species Act of 1973, as amended (ESA). As required by the ESA, NCDMF's application includes a conservation plan designed to minimize and mitigate any such take of endangered or threatened species. The Permit application is for the incidental take of ESA-listed adult and juvenile sea turtles associated with otherwise lawful commercial fall gill net fisheries for flounder operating in Pamlico Sound, NC. The duration of the proposed Permit is for 3 years. NMFS is furnishing this notice in order to allow other agencies and the public an opportunity to review and comment on this document. All comments received will become part of the public record and will be available for review.

DATES: Written comments from interested parties on the Permit application and Plan must be received at the appropriate address or fax number (see ADDRESSES) no later than 5 p.m. Eastern daylight time on August 28, 2002.

ADDRESSES: Written comments on this action should be addressed to the Chief, Endangered Species Division, Office of Protected Resources, NMFS, 1315 East-West Highway, Silver Spring, MD 20910. Comments may also be sent via fax to 301-713-0376. The application is available for download and review at http://www.nmfs.noaa.gov/prot_res /PR3 / Permits / ESA Permit.html. Comments will not be accepted if submitted via e-mail or the Internet.

FOR FURTHER INFORMATION CONTACT: David Bernhart (ph. 727- 570- 5312, fax 727- 570- 5517, e-mail David.Bernhart @ noaa.gov). Comments received will also be available for public inspection, by appointment, during normal business hours by calling 301- 713-1401.

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species incidental to, and not the purpose of, otherwise lawful activities. Section 10(a)(1)(B) of the ESA provides for authorizing incidental take of listed species. NMFS regulations governing permits for threatened and endangered species are promulgated at 50 CFR 222.307.

Species Covered in this Notice

The following species are included in the conservation plan and Permit application: Loggerhead (Caretta caretta), green (Chelonia mydas), leatherback (Dermochelys coriacea), hawksbill (Eretmochelys imbricata), and Kemp's ridley (Lepidochelys kempii) sea turtles.

Background

NMFS issued Permt #1259 to NCDMF (65 FR 65,840, November 2, 2000) and Permit #1348 (66 FR 51,023, October 5, 2001) for managing the sea turtle interactions in certain factions of the 2000 and 2001 commercial fall gill net fisheries for flounder in the southeastern portion of Pamlico Sound. On July 18, 2002, NCDMF submitted an application to NMFS for a Permit (#1398) authorizing incidental take of ESA-listed sea turtles associated with the shallow water fishery for the 2002, 2003, and 2004 fall fishing seasons. This application includes endangered Kemp's ridley, leatherback, and hawksbill sea turtles and the threatened green and loggerhead sea turtles. This fishery targets flounder. The proposed implementation of this fishery will allow for the continued commercial harvest of this species. This fishery is estimated to have a value of over one million dollars per year. This fishery supports fishermen and the local economy.

Conservation Plan

The conservation plan prepared by NCDMF describes measures designed to monitor, minimize, and mitigate the incidental takes of ESA-listed sea turtles. The conservation plan includes managing the shallow water large and small mesh gill net fishery which operates from April through December in areas adjacent to the Outer Banks and mainland in Pamlico Sound. Three gill net restricted areas (GNRAs) will be designated for the eastern Pamlico Sound and two GNRAs in the western Pamlico Sound along the mainland in Hyde and Pamlico Counties.

The three eastern GNRAs consist of waters extending out from the barrier islands to a depth of less than 20 feet (6.1 m). The three GNRAs from south to north are as follows: (1) the area from Wainwright Island including Ocracoke Inlet bound by Core Banks; (2) the area north of Ocracoke Inlet to and encompassing Hatteras Inlet; (3) the area north of Hatteras Inlet to and encompassing Oregon Inlet. The shallow water fishery operates from April through December in depths typically less than 3 feet (1.0 m). Vessels are usually open skiffs ranging from 15 to 25 feet (4.6 to 7.6 m) in length. Each fisherman sets 500 to 2000 yards (457 to 1,828 m) of large mesh (5.5 to 7.0 inch (14.0 to 17.8 cm)) or small mesh (3.5 to 4.5 inch (8.90 to 11.4 cm)) gill net, which are soaked overnight and retrieved by hand.

Monitoring during the 2000 fishing season consisted of 4.3 percent coverage of this fishery with 37 trips observed. Four sea turtle interactions were observed and all were green turtles, three were released alive. During the 2001 fishing season, 131 large mesh trips were observed which represented 9 percent coverage. Four green sea turtles and one hawksbill were observed in the large mesh gill net fishery. For the small mesh fishery, 47 trips were observed for the “set” net and 12 trips observed for the “runaround” accomplishing 20 and 8.4 percent coverage, respectively. No sea turtle interactions were observed.

In addition to the Outer Banks fisheries, a mainland based flounder gill net fishery occurs in the shallow water bays and along the shoreline of Hyde and Pamlico Counties. The two GNRAs consist of all mainland areas within 200 yards (183 m) of shore between 76 30'W and 76 50'W. The fishery operating in this area is similar to the Outer Banks fishery with the effort from April through December. Fishing depths are typically less than 3 feet (1.0 m), and each fisherman sets 500 to 2000 yards (457 to 1,828 m) of large mesh (5.5 to 7.0 inch (14.0 to 17.8 cm)), which are soaked overnight and retrieved by hand. This fishery did not operate during the 2001 fishing season due to the 2001 closure of Pamlico Sound (66 FR 50350, October 3, 2001). No observer trips have been conducted within this fishery and therefore there have been no documented sea turtle takes. However, NCDMF has been conducting an independent gill net survey in this area since May 2001 and completed approximately 1,800 unattended 30 yard (27.4 m) gill net sets composed of large and small stretched mesh with no sea turtle interactions to date.

The annual anticipated lethal and nonlethal incidental take of sea turtles is anticipated to be 72 and 492, respectively. This level is anticipated to consists of equal portions of Kemp's ridley, green, and loggerhead turtles. NCDMF is proposing to limit the commercial fall gill net fishery for flounder such that the incidental impacts on ESA-listed sea turtles will be minimized. NCDMF would use a variety of adaptive fishery management measures and restrictions through their state proclamation authority to reduce sea turtle mortality in the fall gill net fishery by 50 percent, compared to the mortality level indicated by strandings in 1999. NCDMF considered and rejected one other alternative, not applying for a permit and closing the fishery, when developing their conservation plan.

This notice is provided pursuant to section 10(c) of the ESA and the National Environmental Policy Act (NEPA) regulations (40 CFR 1506.6). NMFS will evaluate the application, associated documents, and comments submitted thereon to determine whether the application meets the requirements of the NEPA regulations and section 10(a) of the ESA. If it is determined that the requirements are met, a permit will be issued for incidental takes of ESA-listed sea turtles under the jurisdiction of NMFS. The final NEPA and permit determinations will not be completed until after the end of the 30-day comment period and will fully consider all public comments received during the comment period. NMFS will publish a record of its final action in the Federal Register.

Dated: July 22, 2002.
Margaret Lorenz,
Acting Chief, Endangered Species Division, Office of Protected Resources, National Marine Fisheries Service.

[FR Doc. 02-19115 Filed 7-26-02; 8:45 am]

BILLING CODE 3510-22-S